DEPARTMENT OF THE INTERIOR

National Park Service

Petroglyph National Monument; Transfer of Administrative Jurisdiction Over Certain Lands

DATES: The effective date of this Order shall be the date of publication in the Federal Register.

SUMMARY: The Petroglyph National Monument Establishment Act of 1990, Pub. L. No. 101-313, 104 Stat. 272, established Petroglyph National Monument on the outskirts of Albuquerque, New Mexico. Within the monument's authorized boundaries were certain lands owned by the State of New Mexico. On March 31, 2000, the Bureau of Land Management acquired those particular lands, in the name of the United States, in a land exchange with the State Land Office. On August 14, 2000, the Bureau of Land Management advised that it was transferring administrative jurisdiction on the said lands to the National Park Service.

The lands and/or interests acquired by the Bureau of Land Management, subject to this notice, are designated as Tract 101-05, within the boundaries of Petroglyph National Monument, consisting of 641.89 acres, more or less.

Notice is hereby given that, as of the date of publication of this notice, administrative jurisdiction over those lands and/or interests in land is formally transferred from the Bureau of Land Management to the National Park Service.

Maps and legal descriptions of these particular lands are available for inspection at Petroglyph National Monument Headquarters and the National Park Service, Land Resources Program Center, 2968 Rodeo Park Drive West, Santa Fe, New Mexico 87505.

Dated: August 31, 2000.
Karen Wade,
Regional Director, Intermountain Region, National Park Service.

[FR Doc. 00-24696 Filed 9-25-00; 8:45 am]

BILLING CODE 4310-70-P